DEPARTMENT OF DEFENSE

Department of the Navy

Notice of Record of Decision for Laurelwood Housing Area Access, Naval Weapons Station Earle, Colts Neck, NJ

AGENCY: Department of the Navy, DoD.

ACTION: Notice of Record of Decision.

SUMMARY: The Department of the Navy (Navy), after carefully weighing the operational and environmental consequences of the proposed action, announces its decision to provide unimpeded access to the Laurelwood housing area located at Naval Weapons Station (NWS) Earle, Colts Neck, New Jersey, as required by its agreement with the developer of the Laurelwood housing area. Unimpeded access will be accomplished through implementing Alternative Alignment 4, described in the Final Environmental Impact Statement (FEIS) as the preferred alternative, which will access NWS Earle via a new entrance south of the main gate along New Jersey Route 34 and terminate at the Laurelwood housing area. This will require the issuance of an easement to the Laurelwood developer over the path of the access road, construction of the access road, construction of a bridge over Esperance Road, and installation of perimeter fencing.

SUPPLEMENTARY INFORMATION: The Record of Decision (ROD) has been distributed to all persons who requested a copy of the FEIS. The complete text of the ROD is available on the public Web site: http://www.laurelwoodeis.com along with the complete FEIS and accompanying documentation. Single copies of the ROD will be made available upon request by contacting Naval Facilities Engineering Command Atlantic, Attn: Laurelwood Housing Area EIS Project Manager, Code EV-21 KGB, 6506 Hampton Boulevard, Lafayette River Annex Building A, Norfolk, Virginia 23508.

Dated: May 26, 2009.
A.M. Vallandingham,
Lieutenant Commander, Judge Advocate General's Corps, U.S. Navy, Federal Register Liaison Officer.

[FR Doc. E9-12709 Filed 6-1-09; 8:45 am]

BILLING CODE 3810-FF-P